DEPARTMENT OF HEALTH AND HUMAN SERVICES

Administration for Children and Families

Proposed Information Collection Activity: Comment Request

Title: ANA Reviewer Profile for Panel Review Participation Form.

OMB No.: OMB No: 0970-265.

Description: The Department of Health and Human Services (HHS), Administration for Children and Families (ACF) proposes to revise the ANA Reviewer Profile for Panel Review Participation Form. The ANA Reviewer Profile for Panel Review Participation Form is used to collect information from prospective proposal reviewers in compliance with 42 U.S.C. 2991d 1. First time reviewers will be required to complete all sections of the form while returning reviewers will be required to complete the first section of the document and other necessary updates. The form allows the Commissioner of ANA to select qualified people to review grant applications submitted in response to funding opportunity announcements for ANA's primary programs: Social and Economic Development Strategies (SEDS); Native Language Preservation and Maintenance; and Environmental Regulatory Enhancement. The panel review process is a legislative mandate in the ANA grant funding process.

Respondents: All US citizens including: Native Americans, Native Alaskans, Native Hawaiians and other Pacific Islanders.

Annual Burden Estimates
Instrument | Number of respondents | Number of responses per respondent | Average burden hours per response | Total burden hours
ANA Consultant and Evaluator Qualifications Form | 300 | 1 | .5 | 150

Estimated Total Annual Burden Hours: 150.

In compliance with the requirements of Section 506(c)(2)(A) of the Paperwork Reduction Act of 1995, the Administration for Children and Families is soliciting public comment on the specific aspects of the information collection described above. Copies of the proposed collection of information can be obtained and comments may be forwarded by writing to the administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Report Clearance Officer.

[FR Doc. 2015-03302 Filed 2-17-15; 8:45 am]

BILLING CODE 4184-01-P